ENVIRONMENTAL PROTECTION AGENCY

40 CFR Part 52

[CA-226-0172b; FRL-6534-3]

Approval and Promulgation of State Implementation Plans; California State Implementation Plan Revision; South Coast Air Quality Management District

AGENCY: Environmental Protection Agency (EPA).

ACTION: Proposed rule.

SUMMARY: EPA is proposing to approve revisions to the California State Implementation Plan (SIP) which concern the control of particulate matter (PM) emissions. The revisions amend Rules 403 and 1186 adopted by the South Coast Air Quality Management District (SCAQMD). The intended effect of these SIP revisions is to regulate PM emissions in accordance with the requirements of the Clean Air Act, as amended in 1990 (CAA or the Act). In the Final Rules section of this Federal Register, EPA is approving the State's SIP revision as a direct final rule without prior proposal because the Agency views this as a noncontroversial revision and anticipates no adverse comments. A detailed rationale for this approval is set forth in the direct final rule. If no adverse comments are received, no further activity is contemplated. If EPA receives adverse comments, the direct final rule will be withdrawn and all public comments received will be addressed in a subsequent final rule based on this proposed rule. EPA will not institute a second comment period. Any parties interested in commenting should do so at this time.

DATES: Written comments must be received by March 20, 2000.

ADDRESSES: Written comments must be submitted to Dave Jesson at the Region IX office listed below. Copies of the rules and EPA's evaluation of the rules are available for public inspection at EPA's Region IX office during normal business hours. Copies of the rules are also available at the following locations:

California Air Resources Board, Stationary Source Division, Rule Evaluation Section, 2020 “L” Street, Sacramento, CA 95814.

South Coast Air Quality Management District, 21865 E. Copley Drive, Diamond Bar, CA 91765.

FOR FURTHER INFORMATION CONTACT: Dave Jesson, Planning Office (AIR-2), Air Division, U.S. Environmental Protection Agency, Region IX, 75 Hawthorne Street, San Francisco, CA 94105-3901, 415-744-1288, or jesson.david@epa.gov.

SUPPLEMENTARY INFORMATION: This document concerns revisions to SCAQMD Rule 403, Fugitive Dust, and Rule 1186, PM10 Emissions from Paved and Unpaved Roads and Livestock Operations. The SCAQMD adopted the revisions on December 11, 1998, and the California Air Resources Board submitted the rules to EPA on May 13, 1999. For further information, please see the direct final action located in the Rules section of this Federal Register.

Dated: January 28, 2000.
Nora L. McGee,
Acting Regional Administrator, Region IX.

[FR Doc. 00-3475 Filed 2-16-00; 8:45 am]

BILLING CODE 6560-50-U